DEPARTMENT OF THE INTERIOR

Bureau of Land Management

[WO-310-1310-PB-24 1A]

Extension of Approved Information Collection, OMB Approval Number 1004-0074

AGENCY: Bureau of Land Management, Interior.

ACTION: Notice and request for comments.

SUMMARY: In accordance with the Paperwork Reduction Act of 1995, the Bureau of Land Management (BLM) to extend an existing approval to collect information to determine whether a bidder is qualified to hold a lease and to conduct geothermal resource operations under the terms of the Mineral Leasing Act of 1920 and the Geothermal Steam Act of 1969. BLM uses Forms 3000-2 and 3200-9 to collect this information.

DATES: You must submit your comments to BLM at the address below on or before October 4, 2002. BLM will not necessarily consider any comments received after the above date.

ADDRESSES: You may mail comments to: Regulatory Affairs Group (WO-630), Eastern States Office, 7450 Boston Blvd., Springfield, Virginia 22153.

You may send comments via Internet to: WOComment@blm.gov. Please include “ATTN: 0004-0074” any your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Barbara Gamble, Fluids Minerals Group, on (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires that we provide a 60-day notice in the Federal Register concerning a collection of information to solicit comments on:

(a) Whether the collection of information is necessary for the proper functioning of the agency, including whether the information will have practical utility;

(b) the accuracy of our estimates of the information collection burden, including the validity of the methodology and assumptions we use;

(c) ways to enhance the quality, utility, and clarity of the information collected; and

(d) ways to minimize the information collection burden on those who are to respond, including the use of appropriate automated, electronic, mechanical, or other technological collection techniques or other forms of information technology.

The Mineral Leasing Act of 1920, as amended (30 U.S.C. 181 et seq.), gives the Secretary of the Interior responsibility for oil and gas leasing on approximately 600 million acres of public lands and national forests, and private lands where the Federal Government retains the mineral rights. Congress passed the Federal Onshore Oil and Gas Leasing Reform Act of 1987 requiring BLM to offer all public lands that are available for oil and gas leasing by competitive oral bidding before accepting noncompetitive lease applications. The Department of the Interior Appropriations Act of 1981 (43 U.S.C. 6508) provides for the competitive leasing of the lands in the National Petroleum Reserve—Alaska. The Geothermal Steam Act of 1970 (30 U.S.C. 1001-1025) authorizes the Secretary of the Interior to issue leases for geothermal development.

The regulations (43 CFR part 3100) outline procedures for obtaining a lease to explore for, develop, and produce oil and gas resources located on public lands. The regulations (43 CFR part 3200) outline procedures to issue geothermal leases and the exploration, development and utilization of Federally-owned geothermal resources. BLM needs the information requested on the two forms to process lease bids for oil and gas and geothermal resources and to complete environmental reviews required by NEPA.

You must submit the forms to the proper BLM office. Form 3000-2 requires the name and address to identify the bidder. This allows BLM to ensure that the bidder meets the eligibility requirements in the regulations. The regulations require the bidder to submit one-fifth of the amount of the bid for a geothermal bid or the minimum acceptable bid for an oil and gas lease is the first year's rental and administrative fee. Form 3200-9 requires the name and address of the entity who will conduct operations on the land. You must also submit the legal land description of the lands you plan to enter or disturb for your exploration/operation. We use the starting and ending dates to determine how long the applicant/operator/contractor intends to conduct operations on the land.

Based on BLM's experience administering this program, we estimate the public reporting burden is 2 hours for completing Form 3000-2 and 2 hours for completing Form 3200-9. These estimates include the time spent on research, gathering, and assembling information, reviewing instructions, and completing the respective forms. In FY 2000, BLM estimated 393 competitive bids for oil and gas and geothermal resources and 50 Notice of Intent to Conduct Geothermal Resource Exploration Operations are filed annually, with a total annual burden of 886 hours. Respondents vary from individuals and small businesses to large corporations.

Any member of the public may request and obtain, without charge, a copy of BLM Forms 3000-2 or 3200-9 by contacting the person identified under FOR FURTHER INFORMATION CONTACT.

BLM will summarize all responses to this notice and include them in the request for OMB approval. All comments will become a matter of a public record.

Dated: July 18, 2002.
Michael H. Schwartz,
Bureau of Land Management, Information Collection Clearance Officer.

[FR Doc. 02-19663 Filed 8-2-02; 8:45 am]

BILLING CODE 4310-84-M